DEPARTMENT OF TRANSPORTATION

Federal Aviation Administration

Notice of the Availability for the O'Hare Modernization Final Environmental Impact Statement, Final Section 4(f) and Section 6(f) Evaluation, and Final General Conformity Determination, Chicago O'Hare International Airport, Chicago, IL

AGENCY: Federal Aviation Administration, DOT.

ACTION: Notice of availability of the O'Hare Modernization Final Environmental Impact Statement (FEIS), Final Section 4(f) and Section 6(f) Evaluation, and Final General Conformity Determination.

Location of Proposed Action: O'Hare International Airport, Des Plaines and DuPage River Watersheds, Cook and DuPage Counties, Chicago, Illinois (Sections 4, 5, 6, 7, 8, 9, 16, 17, and 18, Township 416 North, Range 10 East, 3rd P.M.). Please see the airport location maps showing the locations of the wetlands and non-wetland Waters of the U.S. potentially affected by the Build Alternatives from the FEIS. The Notice of Availability is also available on the FAA's Web site at http://www.agl.faa.gov/OMP/FEIS.htm under the title Notice of Availability of the O'Hare Modernization Final EIS, Final Section 4(f) and Section 6(f) Evaluation, and Final General Conformity Determination.

SUMMARY: The Federal Aviation Administration (FAA) announces that the O'Hare Modernization Final Environmental Impact Statement (FEIS), Final Section 4(f) and Section 6(f) Evaluation, and Final General Conformity Determination, for Chicago O'Hare International Airport, Chicago, Illinois, are available for public review. The FAA will accept comment on specific sections of the FEIS that have been updated and/or refined for purposes of the FEIS, in part, because of response to comments on the Draft EIS, Draft Section 4(f) and Section 6(f) Evaluation, and Draft General Conformity Determinations.

The comment period is open as of the date of this Notice of Availability and closes Tuesday, September 6, 2005. The FAA will accept comments on updated and/or refined information in the following sections of the FEIS and the associated appendices:

(1) Sections 3.6 and 3.7, of Chapter 3, Alternatives.

(2) Section 5.6, Air Quality, of Chapter 5, Environmental Consequences.

(3) Subsections 5.21.4 through 5.21.11, of Section 5.21, Environmental Justice, of Chapter 5, Environmental Consequences.

(4) Section 5.8, Section 4(f) and Section 6(f) Resources, of Chapter 5, Environmental Consequences.

(5) Section 5.22, Other Issues Relating to Cemetery Acquisition, of Chapter 5, Environmental Consequences.

(6) Section 5.23, Issues Relating to Due Process Claims and Formal Adjudicative Processes, of Chapter 5, Environmental Consequences.

(7) Chapter 7, Mitigation.

The FEIS identifies alternatives intended to address the projected needs of the Chicago region by reducing delays at O'Hare, thereby enhancing capacity of the National Airspace System, and ensuring that terminal facilities and supporting infrastructure can efficiently accommodate airport users. All of the development alternatives would result in wetland, property acquisition, air quality and noise impacts, as well as other impacts.

All comments are to be submitted to Michael W. MacMullen of the FAA, at the address shown below. The USACE and IEPA have requested that the FAA be the recipient of all comments regarding their actions. These comments must be sent to Michael W. MacMullen of the FAA at the address shown below, and the comments must be postmarked and e-mail must be sent by no later than 5 p.m., central standard time, Tuesday, September 6, 2005.

The USACE participated in the EIS process because implementation of any development alternative, if selected, would require the USACE to approve issuance of a permit to fill wetlands under Section 404 of the Clean Water Act Section. The IEPA participated in the EIS process because implementation of any wetland development alternative, if selected, would also require IEPA to issue a Water Quality Certification under Section 401 of the Clean Water Act.

SUPPLEMENTARY INFORMATION: The City of Chicago (City), Department of Aviation, as owner and operator of Chicago O'Hare International Airport (O'Hare or the Airport), PO Box 66142, Chicago, IL 60666, proposes to modernize O'Hare to address existing and future capacity and delay problems. The City initiated master planning and the process of seeking FAA approval to amend its airport layout plan to depict the O'Hare Modernization Program (OMP). The City is also seeking the other necessary FAA approvals to implement the OMP and associated capital improvements and procedures. The FAA has prepared a FEIS addressing specific improvements at and adjacent to Chicago O'Hare International Airport, Chicago, Illinois. FAA's FEIS presents an evaluation of the City's proposed project and reasonable alternatives. Under the City's concept, O'Hare's existing seven-runway configuration would be replaced by an eight-runway configuration, in which six runways would be oriented generally in the east/west direction, the existing northeast/southwest-oriented Runways 4L/22R and 4R/22L would remain, and Runways 14L/32R and 14R/32L would be closed.

Please see the airport location maps showing the locations of the wetlands and non-wetland Waters of the U.S. potentially affected by the Build Alternatives from the FEIS. This Notice of Availability is also available on the FAA's Web site at http://www.agl.faa.gov/OMP/FEIS.htm under the title Notice of Availability of the Final EIS.

The Final EIS is available for review until September 6, 2005, at the following libraries:

Arlington Heights Memorial Library | 500 North Dunton Ave | Arlington Heights.
Bellwood Public Library | 600 Bohland Ave | Bellwood.
Bensenville Community Public Library | 200 S Church Rd | Bensenville.
Berkeley Public Library | 1637 Taft Ave | Berkeley.
Bloomingdale Public Library | 101 Fairfield Way | Bloomingdale.
College of DuPage Library | 425 Fawell Blvd | Glen Ellyn.
Des Plaines Public Library | 1501 Ellinwood Ave | Des Plaines.
Eisenhower Public Library | 4652 N Olcott Ave | Harwood Heights.
Elk Grove Village Public Library | 1001 Wellington Ave | Elk Grove.
Elmhurst Public Library | 211 Prospect Ave | Elmhurst.
Elmwood Park Public Library | 4 W Conti Pkwy | Elmwood Park.
Franklin Park Public Library | 10311 Grand Ave | Franklin Park.
Glendale Heights Library | 25 E Fullerton Ave | Glendale Heights.
Glenview Public Library | 1930 Glenview Rd | Glenview.
Harold Washington Library | 400 S. State St | Chicago.
Hoffman Estates Library | 1550 Hassell Rd | Hoffman Estates.
Itasca Community Library | 500 W. Irving Park Rd | Itasca.
Lombard Public Library | 110 W Maple St | Lombard.
Maywood Public Library | 121 S. 5th Ave | Maywood.
Melrose Park Public Library | 801 N. Broadway | Melrose Park.
Morton Grove Public Library | 6140 Lincoln Ave | Morton Grove.
Mount Prospect Public Library | 10 S Emerson St | Mount Prospect.
Niles Public Library | 6960 W Oakton St | Niles.
Northlake Public Library | 231 N. Wolf Rd | Northlake.
Oak Park Public Library | 834 Lake St | Oak Park.
Oakton Community College Library | 1616 E. Golf Rd | Des Plaines.
Park Ridge Public Library | 20 S Prospect Ave | Park Ridge.
River Forest Public Library | 735 Lathrop Ave | River Forest.
River Grove Public Library | 8638 W. Grand Ave | River Grove.
Schaumburg Township District Library | 130 S Roselle Rd | Schaumburg.
Schiller Park Public Library | 4200 Old River Rd | Schiller Park.
Villa Park Public Library | 305 S Ardmore Ave | Villa Park.
Wood Dale Public Library | 520 N Wood Dale Rd | Wood Dale.

Written comments, faxes and e-mails should be submitted to Michael W. MacMullen of the FAA. The comment period is open as of the date of this Notice of Availability and closes at 5 p.m. central standard time, Tuesday, September 6, 2005. The FAA will accept comments on updated and/or refined information in the following sections of the FEIS and the associated appendices:

(1) Sections 3.6 and 3.7, of Chapter 3, Alternatives.

(2) Sections 5.6, Air Quality, of Chapter 5, Environmental Consequences.

(3) Subsections 5.21.4 through 5.21.11, of Section 5.21, Environmental Justice, of Chapter 5, Environmental Consequences.

(4) Section 5.8, Section 4(f) and Section 6(f) Resources, of Chapter 5, Environmental Consequences.

(5) Section 5.22, Other Issues Relating to Cemetery Acquisition, of Chapter 5, Environmental Consequences.

(6) Section 5.23, Issues Relating to Due Process Claims and Formal Adjudicative Processes, of Chapter 5, Environmental Consequences.

(7) Chapter 7, Mitigation.

Comments received via e-mail can only be accepted with the full name and address of the individual commenting.

FOR FURTHER INFORMATION CONTACT: Michael W. MacMullen, Airports Environmental Program Manager, Federal Aviation Administration, Chicago Airports District Office, 2300 East Devon Avenue, Des Plaines, IL 60018. Telephone: 847-294-8339, FAX: 847-294-7046, e-mail address: ompeis@faa.gov.

Issued in Des Plaines, Illinois on July 20, 2005.
Barry Cooper,
Manager, Chicago Area Modernization Program Office, Great Lakes Region.

[FR Doc. 05-14757 Filed 7-28-05; 8:45 am]

BILLING CODE 4910-13-M